MERIT SYSTEMS PROTECTION BOARD

Agency Information Collection Activities; Proposed Collection

AGENCY: Merit Systems Protection Board.

ACTION: Notice.

SUMMARY: The U.S. Merit Systems Protection Board (MSPB) is requesting approval from the Office of Management and Budget (OMB) to conduct a new information collection activity. Before submitting the Information Collection Request (ICR) to OMB for review and approval, MSPB is soliciting comments on aspects of the proposed information collection including the public reporting burden in compliance with the Paperwork Reduction Act (PRA). In this regard we are soliciting comments on the public reporting burden. The reporting burden for the collection of information on this form is estimated to average 20 minutes per respondent, including time for reviewing instructions and completing the survey. In addition, the MSPB invites comments on: (1) Whether the proposed collection of information is necessary for the proper performance of MSPB's functions, including whether the information will have practical utility; (2) the accuracy of MSPB's estimate of burden of the proposed collection of information, including the validity of the methodology and assumptions used; (3) ways to enhance the quality, utility, and clarity of the information to be collected; and (4) ways to minimize the burden of the collection of information on respondents, including through the use of automated collection techniques or other forms of information technology.

DATES: Written comments must be received on or before August 4, 2008.

ADDRESSES: Submit written comments on the collection of information to Dr. Dee Ann Batten, Office of Policy and Evaluation, Merit Systems Protection Board, 1615 M Street, NW., Washington, DC 20419.

FOR FURTHER INFORMATION CONTACT: Requests for additional information should be directed to Dr. Dee Ann Batten at (202) 653-6772, ext. 1411, or by e-mail to deeann.batten@mspb.gov (please put “Employee Survey” in the subject line of the message).

SUPPLEMENTARY INFORMATION: This study is being conducted under MSPB's statutory authority to “conduct, from time to time, special studies relating to the civil service and to other merit systems in the executive branch, and report to the President and to the Congress as to whether the public interest in a civil service free of prohibited personnel practices is being adequately protected.” (section 1204, title 5 U.S.C.) In addition, the Code of Federal Regulations also describes the role of MSPB's Office of Policy and Evaluation as responsible for carrying out “the Board's statutory responsibility to conduct special reviews and studies of the civil service and other merit systems in the Executive Branch, as well as oversight reviews of the significant actions of the Office of Personnel Management.” 5 CFR 1200.10(b)(6). The MSPB intends to ask for approval to collect information to support its study on Federal Telework. Respondents will be asked to complete a survey(s) about their experiences with and perceptions of Telework and other related topics about their organizations and careers.

Burden Statement: The reporting burden for the collection of information on this request is estimated to vary from 15 minutes to 30 minutes, with an average of 20 minutes, including time for reviewing instructions and completing and reviewing the collection of information. The respondents will be selected via stratified random sampling to facilitate representative samples of employees. We plan to survey 28,000 people with one response per person. We estimate the response rate to be 60 percent (16,800 total responses) resulting in an annual reporting burden of 5,544 hours (.33 hours × 16,800).

William D. Spencer,
Clerk of the Board.

[FR Doc. E8-12380 Filed 6-3-08; 8:45 am]

BILLING CODE 7400-01-P